DEPARTMENT OF THE INTERIOR

Bureau of Land Management

[ES-960-1910-BJ-4489; ES-052452, Group No. 38, Missouri]

Eastern States: Filing of Plat of Survey

AGENCY: Bureau of Land Management, Interior.

ACTION: Notice of Filing of Plat of Survey; Missouri.

SUMMARY: The Bureau of Land Management (BLM) will file the plat of survey of the lands described below in the BLM-Eastern States, Springfield, Virginia, 30 calendar days from the date of publication in the Federal Register.

FOR FURTHER INFORMATION CONTACT: Bureau of Land Management, 7450 Boston Boulevard, Springfield, Virginia 22153. Attn: Cadastral Survey.

SUPPLEMENTARY INFORMATION: This survey was requested by the U.S. Army Corps of Engineers.

The lands we surveyed are:

Fifth Principal Meridian, Missouri

T. 51 N., Rs. 2 and 3 E.

The plat of survey represents the dependent resurvey of portions of the township boundaries, portions of the subdivisional lines and the survey of the Lock and Dam No. 25 acquisition boundary, in Township 51 North, Ranges 2 and 3 East, of the Fifth Principal Meridian, in the State of Missouri, and was accepted on October 29, 2004.

We will place a copy of the plat we described in the open files. It will be made available to the public as a matter of information.

Dated: October 29, 2004
Stephen D. Douglas,
Chief Cadastral Surveyor.

[FR Doc. 04-26802 Filed 12-6-04; 8:45 am]

BILLING CODE 4310-GJ-P